COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities and to delete products previously furnished by such agencies.

DATES: Comments must be received on or before: 7/12/2010.

ADDRESSES: Committee for Purchase From People Who Are Blind or Severely Disabled, Jefferson Plaza 2, Suite 10800, 1421 Jefferson Davis Highway, Arlington, Virginia 22202-3259.

FOR FURTHER INFORMATION CONTACT: For Further Information or to Submit Comments Contact: Barry S. Lineback, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Double Pocket Portfolios

NSN: 7510-01-316-2302.

NPA: L.C. Industries for the Blind, Inc., Durham, NC.

Contracting Activity: Federal Acquisition Service, GSA/FSS OFC SUP CTR—Paper Products, New York, NY.

Coverage: A-List for the Total Government Requirement as aggregated by the GSA/Federal Supply Service, Office Support Center—Paper Products.

Microfiber and Metallic Scrubber Sponges (3-Pack)

NSN: MR 999.

NPA: New York City Industries for the Blind, Inc., Brooklyn, NY.

Contracting Activity: Defense Commissary Agency, Military Resale, Fort Lee, VA.

Coverage: C-List for 100% of the requirements of military commissaries and exchanges as aggregated by the Defense Commissary Agency.

Candles, Soy

NSN: MR 470—Cucumber Melon.

NSN: MR 471—Cucumber Pomegranate.

NSN: MR 472—Macintosh Apple.

NSN: MR 473—Fresh Linen.

NPA: Industries for the Blind, Inc., West Allis, WI.

Contracting Activity: Defense Commissary Agency, Military Resale, Fort Lee, VA.

Coverage: C-List for 100% of the requirements of military commissaries and exchanges as aggregated by the Defense Commissary Agency.

Tape, Pressure Sensitive Adhesive (Crepe backing)

NSN: 7510-00-266-6694.

NSN: 7510-00-266-6709.

NPA: Cincinnati Association for the Blind, Cincinnati, OH.

Contracting Activity: Federal Acquisition Service, GSA/FSS OFC SUP CTR—Paper Products, New York, NY.

Coverage: A-List for the Total Government Requirement as aggregated by the GSA/Federal Supply Service, Office Support Center—Paper Products.

Cloth, Dish, Microfiber With Scrubber Mesh

NSN: MR 963—Blue, 3/pack.

NSN: MR 964—Green, 3/pack.

NSN: MR 965—Red, 3/pack.

NPA: New York City Industries for the Blind, Inc., Brooklyn, NY.

Contracting Activity: Defense Commissary Agency, Military Resale, Fort Lee, VA.

Coverage: C-List for 100% of the requirements of military commissaries and exchanges as aggregated by the Defense Commissary Agency.

Slicer Aid

NSN: MR 825.

NPA: Industries for the Blind, Inc., West Allis, WI.

Contracting Activity: Defense Commissary Agency, Military Resale, Fort Lee, VA.

Coverage: C-List for 100% of the requirements of military commissaries and exchanges as aggregated by the Defense Commissary Agency.

Box, Wood, Ammunition Packing

NSN: 8140-00-NSH-0007.

NPA: Knox County Association for Retarded Citizens, Inc., Vincennes, IN.

Contracting Activity: Dept. of the Navy, Indian Head Division Naval Surface, Indian Head, MD.

Coverage: C-List for 100% of the requirements of the Indian Head Division, Naval Surface Warfare Center as aggregated by the Indian Head Division, Naval Surface Warfare Center, Indian Head, MD.

Caddy, Bucket and Cleaning Kit

NSN: MR 1016.

NPA: Industries for the Blind, Inc., West Allis, WI.

Contracting Activity: Defense Commissary Agency, Military Resale, Fort Lee, VA.

Coverage: C-List for 100% of the requirements of military commissaries and exchanges as aggregated by the Defense Commissary Agency.

NSN: MR 807—Spoon, Slotted, SS Trim.

NSN: MR 808—Spoon, Basting, SS Trim.

NSN: MR 809—Turner, Slotted, SS Trim.

NSN: MR 810—Skimmer, Kitchen, SS Trim.

NSN: MR 811—Fork, Serving, SS Trim.

NSN: MR 814—Spatula, Wide, SS Trim.

NPA: Industries for the Blind, Inc., West Allis, WI.

Contracting Activity: Defense Commissary Agency, Military Resale, Fort Lee, VA.

Coverage: C-List for 100% of the requirements of military commissaries and exchanges as aggregated by the Defense Commissary Agency.

Services

Service Type/Location: Custodial Service, National Weather Service, 5777 S. Aviation Blvd., North Charleston, SC.

NPA: Goodwill Industries of Lower South Carolina, Inc., North Charleston, SC.

Contracting Activity: Dept. of Commmerce, National Oceanic and Atmospheric Administration, Norfolk, VA.

Service Type/Locations: Administrative Support Service, Atlanta VA Medical Center, 1670 Clairmont Road, Decatur, GA.

Atlanta VAMC HAS Office, 755 Commerce Drive, Decatur, GA.

NPA: Bobby Dodd Institute, Inc., Atlanta, GA.

Contracting Activity: Department of Veterans Affairs, VISN 7 Consolidated Contracting, Augusta, GA.

Service Type/Locations: Laundry Service, Atlanta VA Medical Center, 1670 Clairmont Road, Decatur, GA.

W.J.B. Dorn VA Medical Center, 6439 Garners Ferry Road, Columbia, SC.

Ralph H. Johnson VA Medical Center, 109 Bee Street, Charleston, SC.

Charlie Norwood VA Medical Center Downtown Division, 800 Balie Street, Augusta, GA.

Athens VA Community Based Outpatient Clinic (CBOC), 9249 Highway 29 South, Athens, GA.

Aiken Community Based Outpatient Clinic (CBOC), 951 Milbrook Avenue, Aiken, SC.

Charlie Norwood VA Medical Center Uptown Division, 1 Freedom Way, Augusta, GA.

Carl Vinson VA Medical Center, 1826 Veterans Boulevard, Dublin, GA.

NPA: GINFL Services, Inc., Jacksonville, FL.

Contracting Activity: Department of Veterans Affairs, VISN 7 Consolidated Contracting, Augusta, GA.

Service Type/Location: Custodial Service. Costa Mesa USARC, 2651 Newport Blvd., Costa Mesa, CA.

NPA: Elwyn, Inc., Aston, PA.

Contracting Activity: Dept. of The Army, XR W6BB ACA Presidio Of Monterey, Presidio Of Monterey, CA.

Service/Location: Custodial Service. Fort Leonard Wood, MO.

NPA: Challenge Unlimited, Alton, IL

Contracting Activity: U.S. Army Mission And Installation Contracting Command, Flw Directorate Of Contracting, Fort Leonard Wood, MO.

Service/Location: Grounds Maintenance Service. Great Lakes Naval Training Center, Great Lakes, IL.

NPA: Challenge Unlimited, Alton, IL.

Contracting Activity: Naval Facilities Engineering Command, Midwest, Great Lakes, IL.

Service/Location: Tier 1 Help Desk (Call Center) Service. Defense Logistics Agency, Fort Belvoir, VA.

NPA: Only one of the listed Nonprofit Agencies will be designated by the Committee to perform the Tier 1 Help Desk (Call Center) Service.

Didlake, Inc., Manassas, VA.

Goodwill Industries of North Florida, Jacksonville, FL.

Melwood Horticultural Training Center, Upper Marlboro, MD.

National Telecommuting Institute, Boston, MA.

Peckham Vocational Industries, Inc., Lansing, MI.

Project Hired, Santa Clara, CA.

ServiceSource, Inc., Alexandria, VA.

Contracting Activity: Defense Logistics Agency, Contracting Services Office, Fort Belvoir, VA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Urinal, Incontinent

NSN: 6530-01-451-7652

NSN: 6530-01-451-7653

NSN: 6530-01-451-7654

NSN: 6530-01-451-7655

NSN: 6530-01-451-7656

NSN: 6530-01-451-7657

NSN: 6530-01-451-7658

NSN: 6530-01-451-7659

NPA: Lighthouse for the Blind, St. Louis, MO.

Contracting Activity: Department of Veterans Affairs, NAC, Hines, IL.

Barry S. Lineback,
Director, Business Operations.

[FR Doc. 2010-14096 Filed 6-10-10; 8:45 am]

BILLING CODE 6353-01-P